DEPARTMENT OF COMMERCE

International Trade Administration

[C-533-821]

Certain Hot-Rolled Carbon Steel Flat Products From India: Amended Final Results of Countervailing Duty Administrative Review Pursuant to Court Decision

AGENCY: Import Administration, International Trade Administration, Department of Commerce.

SUMMARY: On November 29, 2011, the Court of International Trade (CIT) issued an order in Tata Steel Limited v. United States, and United States Steel Corporation and Nucor Corporation, Court No. 10-00219, Order of Judgment By Stipulation of the Parties (November 29, 2011) (Tata) pertaining to the Department's agreement with Tata Steel Limited (Tata), setting the final countervailing rate for the period of review (POR) of January 1, 2008, through December 31, 2008 (2008 POR) to 102.74 percent, and specifying the future countervailing duty cash deposit rate to 102.74 percent for that company. The Department is amending the final results of the administrative review of the countervailing duty order on certain hot-rolled carbon steel flat products (HRCS) from India covering the 2008 POR, to reflect the CIT's order in Tata.

DATES: Effective Date: December 14, 2011.

FOR FURTHER INFORMATION CONTACT: Gayle Longest, AD/CVD Operations, Office 3, Import Administration, International Trade Administration, U.S. Department of Commerce, 14th Street and Constitution Avenue NW., Washington, DC 20230; telephone (202) 482-3338.

SUPPLEMENTARY INFORMATION:

Background

On July 26, 2010, the Department published its final results in the countervailing duty administrative review of HRCS from India covering the POR of January 1, 2008, through December 31, 2008. See Certain Hot-Rolled Carbon Steel Flat Products from India: Final Results of Countervailing Duty Administrative Review, 75 FR 43448 (July 26, 2010) (Final Results), and accompanying Issues and Decision Memorandum.

Tata filed a lawsuit challenging certain aspects of the final results concerning Tata. The Department entered into a settlement agreement with Tata.

Pursuant to the Order Of Judgment By Stipulation Of The Parties, the CIT directed the Department to: (1) Amend the Final Results with respect to Tata, setting the final countervailing duty rate for the 2008 POR to 102.74 percent, and specifying the future countervailing duty cash deposit rate for Tata to be 102.74 percent; (2) calculate the total amount of duties due on the three entries covered by the litigation based on 102.74 percent and issue instructions to U.S. Customs and Border Protection (CBP) requiring the total amount of duties due to be assessed on the remaining two entries; and (3) issue instructions to CBP establishing the future cash deposit rate for Tata at the rate of 102.74 percent, which will remain in place until it is changed by the Department in a future administrative review of the firm with respect to the countervailing duty order on HRCS from India.

Amended Final Results

In accordance with the CIT's order, the countervailing duty rate for Tata for the period January 1, 2008, through December 31, 2008, is 102.74 percent. In addition, the cash deposit rate for Tata is 102.74 percent.

Assessment of Duties

In accordance with the CIT's order, CBP shall assess countervailing duties on all appropriate entries covered by these amended final results. The Department intends to issue liquidation instructions to CBP 15 days after publication of these amended final results in the Federal Register. The Department will also instruct CBP to collect cash deposits of estimated countervailing duties on shipments of the subject merchandise produced by Tata, entered or withdrawn from warehouse, for consumption on or after the date of publication of these amended final results.

Notification

We are issuing and publishing these amended final results of administrative review in accordance with sections 751(a)(1) and 777(i) of the Tariff Act of 1930, as amended.

Dated: December 8, 2011.
Ronald K. Lorentzen,
Acting Assistant Secretary for Import Administration.

[FR Doc. 2011-32103 Filed 12-13-11; 8:45 am]

BILLING CODE 3510-DS-P